FARM CREDIT ADMINISTRATION

12 CFR Parts 600 and 604

RIN 3052-AD17

Organization and Functions; Farm Credit Administration Board Meetings

AGENCY: Farm Credit Administration.

ACTION: Final rule.

SUMMARY: The Farm Credit Administration (FCA or Agency) issues a final rule amending its regulations to reflect changes in the Agency's organizational structure and to correct the mailing address for the McLean office.

DATES: This regulation will become effective no earlier than 30 days after publication in the Federal Register during which either one or both Houses of Congress are in session. We will publish a document announcing the effective date in the Federal Register.

FOR FURTHER INFORMATION CONTACT: Paul K. Gibbs, Associate Director, Office of Regulatory Policy, Farm Credit Administration, (703) 883-4203, TTY (703) 883-4056;

or

Autumn R. Agans, Senior Attorney, Office of General Counsel, Farm Credit Administration, (703) 883-4020, TTY (703) 883-4056.

SUPPLEMENTARY INFORMATION:

I. Objectives

The objective of this final rule is to reflect changes to FCA's organizational structure and to correct the mailing address for the McLean office.

II. Overview

On November 5, 2019, the FCA Board approved an organizational chart that created the Office of Data Analytics and Economics. This change will allow the Agency to continue on its path to becoming a more data-driven policymaking organization. Further, there are sections of 12 CFR 604.425(a)and 604.440 that only list the FCA Board address as McLean, excluding the street address.

III. Organizational Structure

The Freedom of Information Act, 5 U.S.C. 552, requires, in part, that each Federal agency publish in the Federal Register, for the guidance of the public, a description of its organization structure. Accordingly, we revise our regulations as follows:

1. Changing § 600.4(a) by:

a. Removing the Office of Management Services from the responsibilities of the Chief Operating Officer listed in paragraph (a)(7) and replacing it with the Office of Agency Services;

b. Adding the Office of Information Technology, the Office of Chief Financial Officer and the Office of Data Analytics and Economics to the responsibilities of the Chief Operating Officer listed in paragraph (a)(7);

c. Removing personnel security programs from the programs overseen by the Office of Chief Financial Officer listed in paragraph (a)(9) and adding personnel security programs to the services managed by the Office of Agency Services listed in paragraph (a)(8); and

d. Adding the Office of Data Analytics and Economics in the organizational structure as one of FCA's primary offices, in a new section.

2. Adding 1501 Farm Credit Drive to the address in the first line of § 604.425(a).

3. Adding 1501 Farm Credit Drive to the address in the last line of § 604.440.

IV. Certain Findings

We have determined that the amendments involve Agency management and personnel and other minor technical changes. Therefore, the amendments do not constitute a rulemaking under the Administrative Procedure Act (APA), 5 U.S.C. 551, 553(a)(2). Under the APA, the public may participate in the promulgation of rules that have a substantial impact on the public. The amendments to our regulations relate to Agency management and personnel are a minor technical change only and have no direct impact on the public and, therefore, do not require public participation.

Even if these amendments were a rulemaking under 5 U.S.C. 551, 553(a)(2) of the APA, we have determined that notice and public comment are unnecessary and contrary to the public interest. Under 5 U.S.C. 553(b)(A) and (B) of the APA, an agency may publish regulations in final form when they involve matters of agency organization or where the agency for good cause finds that notice and public comment are impracticable, unnecessary, or contrary to the public interest. As discussed above, these amendments result from recent office reorganizations. Because the amendments will provide accurate and current information on the organization of FCA, it would be contrary to the public interest to delay amending the regulations.

V. Regulatory Flexibility Act

Pursuant to section 605(b) of the Regulatory Flexibility Act (5 U.S.C. 601 et seq.), FCA hereby certifies that the final rule will not have a significant economic impact on a substantial number of small entities. Each of the banks in the Farm Credit System (System), considered together with its affiliated associations, has assets and annual income in excess of the amounts that would qualify them as small entities. Therefore, System institutions are not “small entities” as defined in the Regulatory Flexibility Act.

List of Subjects

12 CFR Part 600

Organization and functions (Government agencies).

12 CFR Part 604

Farm Credit Administration Board Meetings.

For the reasons stated in the preamble, parts 600 and 604 of chapter VI, title 12 of the Code of Federal Regulations, are amended as follows:

PART 600—ORGANIZATION AND FUNCTIONS

1. The authority citation for part 600 continues to read as follows:

Authority: Secs. 5.7, 5.8, 5.9, 5.10, 5.11, 5.17, 8.11 of the Farm Credit Act (12 U.S.C. 2241, 2242, 2243, 2244, 2245, 2252, 2279aa-11).

2. Revise § 600.4 to read as follows:

§ 600.4 Organization of the Farm Credit Administration.

(a) Offices and functions. The primary offices of the FCA are:

(1) Office of Inspector General. The Office of Inspector General conducts independent audits, inspections, and investigations of Agency programs and operations and reviews proposed legislation and regulations.

(2) Secretary to the Board. The Secretary to the Board serves as the parliamentarian for the Board and keeps permanent and complete records and minutes of the acts and proceedings of the Board.

(3) Equal Employment and Inclusion Director. The Office of Equal Employment and Inclusion manages and directs the Agency-wide Diversity, Inclusion, and Equal Employment Opportunity Program for FCA and FCSIC. The office serves as the chief liaison with the Equal Employment Opportunity Commission and the Office of Personnel Management on all EEO, diversity, and inclusion issues. The office provides counsel and leadership to Agency management to carry out its continuing policy and program of nondiscrimination, affirmative action, and diversity.

(4) Designated Agency Ethics Official. The Designated Agency Ethics Official is designated by the FCA Chairman to administer the provisions of title I of the Ethics in Government Act of 1978, as amended, to coordinate and manage FCA's ethics program and to provide liaison to the Office of Government Ethics with regard to all aspects of FCA's ethics program.

(5) Office of Congressional and Public Affairs. The Office of Congressional and Public Affairs performs Congressional liaison duties and coordinates and disseminates Agency communications.

(6) Office of Secondary Market Oversight. The Office of Secondary Market Oversight regulates and examines the Federal Agricultural Mortgage Corporation for safety and soundness and compliance with law and regulations.

(7) Office of the Chief Operating Officer. The Chief Operating Officer has broad responsibility for planning, directing, and controlling the operations of the Offices of Agency Services, Chief Financial Officer, Examination, Regulatory Policy, Information Technology, Data Analysis and Economics, and General Counsel in accordance with the operating philosophy and policies of the FCA Board.

(8) Office of Agency Services. The Office of Agency Services, manages human capital and administrative services for the Agency. This includes providing the following services to the Agency: Staffing and placement, personnel security programs, job evaluation, compensation and benefits, payroll administration, performance management and awards, employee relations, employee training and development, contracting, acquisitions, records and property management, supply services, agency purchase cards, design, publication, and mail service.

(9) Office of the Chief Financial Officer. The Office of the Chief Financial Officer, manages and delivers timely, accurate, and reliable financial services to the Agency. The office establishes financial policies and procedures and oversees the formulation and execution of the Agency's budget. The office reports periodically on the status of the Agency's financial position, results of operations, and budgetary resources. It also oversees the Agency's travel management and internal controls.

(10) Office of Regulatory Policy. The Office of Regulatory Policy develops policies and regulations for the FCA Board's consideration; evaluates regulatory and statutory prior approvals; manages the Agency's chartering activities; and analyzes policy and strategic risks to the System.

(11) Office of Examination. The Office of Examination evaluates the safety and soundness of FCS institutions and their compliance with law and regulations and manages FCA's enforcement and supervision functions.

(12) Office of Information Technology. The Office of Information Technology manages and delivers the Agency's information technology, data analysis infrastructure, and the security supporting Agency technology resources.

(13) Office of Data Analytics and Economics. The Office of Data Analytics and Economics evaluates strategic risks to the System using data, analytics, economic trends, and other risk factors. The Office serves as a steward for Agency data and as a provider of information for objective, evidence-based decision making across the Agency. The Office facilitates an agency wide strategy for analytics and collaborates across Offices on business intelligence tools and development of models to meet the strategic needs of the Agency.

(14) Office of General Counsel. The Office of General Counsel provides legal advice and services to the FCA Chairman, the FCA Board, and Agency staff.

(b) Additional information. You may obtain more information on the FCA's organization by visiting our website at http://www.fca.gov. You may also contact the Office of Congressional and Public Affairs:

(1) In writing at FCA, 1501 Farm Credit Drive, McLean, Virginia 22102-5090;

(2) By email at info-line@fca.gov; or

(3) By telephone at (703) 883-4056.

PART 604—FARM CREDIT ADMINISTRATION BOARD MEETINGS

3. The authority citation for part 604 continues to read as follows:

Authority: Secs. 5.9, 5.17 of the Farm Credit Act; 12 U.S.C. 2243, 2252.

4. In § 604.425, revise paragraph (a) to read as follows:

§ 604.425 Announcement of meetings.

(a) The Board meets in the offices of the Farm Credit Administration, 1501 Farm Credit Drive, McLean, Virginia 22102-5090, on the second Thursday of each month, unless the Board fixes a different time and/or place for a meeting and follows the requirements of paragraph (b) of this section.

* * * * *

5. Revise § 604.440 to read as follows:

§ 604.440 Requests for information.

Requests to the Farm Credit Administration for information about the time, place, and subject matter of a meeting, whether it or any portion thereof is closed to the public, and any requests for copies of the transcript or minutes, or of a transcript of an electronic recording of a closed meeting, or closed portion of a meeting, to the extent not exempt from disclosure by the provisions of § 604.420 of this part, shall be addressed to the Secretary to the Board, Farm Credit Administration, 1501 Farm Credit Drive, McLean, Virginia 22102-5090.

Dated: January 23, 2020.
Dale Aultman,
Secretary, Farm Credit Administration Board.

[FR Doc. 2020-01411 Filed 2-4-20; 8:45 am]

BILLING CODE 6705-01-P